NATIONAL ARCHIVES AND RECORDS ADMINISTRATION

[NARA-2016-003]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide agencies with mandatory instructions for what to do with records when agencies no longer need them for current Government business. The instructions authorize agencies to preserve records of continuing value in the National Archives of the United States and to destroy, after a specified period, records lacking administrative, legal, research, or other value. NARA publishes notice in the Federal Register for records schedules in which agencies propose to destroy records not previously authorized for disposal or to reduce the retention period of records already authorized for disposal. NARA invites public comments on such records schedules, as required by 44 U.S.C. 3303a(a).

DATES: NARA must receive requests for copies in writing by December 18, 2015. Once NARA appraises the records, we will send you a copy of the schedule you requested. We usually prepare appraisal memoranda that contain additional information concerning the records covered by a proposed schedule. You may also request these. If you do, we will also provide them once we have completed the appraisal. You have 30 days after we send you these requested documents in which to submit comments.

ADDRESSES: You may request a copy of any records schedule identified in this notice by contacting Records Management Services (ACNR) using one of the following means:

Mail: NARA (ACNR); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Management Services (ACNR); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless otherwise specified. An item in a schedule is media-neutral when an agency may apply the disposition instructions to records regardless of the medium in which it has created or maintains the records. Items included in schedules submitted to NARA on or after December 17, 2007, are media-neutral unless the item is specifically limited to a specific medium. (See 36 CFR 1225.12(e).)

No agencies may destroy Federal records without the approval of the Archivist of the United States. The Archivist grants this approval only after thorough consideration of the records' administrative use by the agency of origin, the rights of the Government and of private people directly affected by the Government's activities, and whether or not the records have historical or other value.

In addition to identifying the Federal agencies and any subdivisions requesting disposition authority, lists the organizational unit(s) accumulating the records or lists that the schedule has agency-wide applicability (in the case of schedules that cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Farm Service Agency (DAA-0145-2015-0003, 2 items, 1 temporary item). County reports on foreign investment in U.S. farmland. Proposed for permanent retention are the central office reports.

2. Department of Agriculture, Farm Service Agency (DAA-0145-2015-0019, 7 items, 1 temporary item). Copies of aerial photographs of domestic farmland. Proposed for permanent retention are records related to aerial photography of domestic farmland, including original negative film, indexes, digital images, and film reports.

3. Department of the Interior, National Park Service (DAA-0079-2016-0001, 18 items, 4 temporary items). Records of the Valles Caldera National Trust, including routine and uncaptioned photographs, records on geothermal wells, and Web site content and management records. Proposed for permanent retention are organizational history files, board of trustees records, annual and other reports, executive director files, newsletters and news releases, still photographs, records relating to public meetings, publications, land use records, cartographic records, and blueprints.

4. Department of State, Bureau of Diplomatic Security (DAA-0059-2015-0009, 1 item, 1 temporary item). Records include copies of memorandums, internal instructions, and briefing materials.

5. Federal Communications Commission, Wireline Competition Bureau (DAA-0173-2016-0002, 1 item, 1 temporary item). Records include applications for equipment certification and registration.

6. Office of Personnel Management, Agency-wide (DAA-0478-2015-0003, 1 item, 1 temporary item). Records relating to insider threat program inquiry case files including complaints, investigations, and reports.

7. Peace Corps, Office of Strategic Partnerships (DAA-0490-2014-0003, 4 items, 2 temporary items). Records include routine administrative files and working papers. Proposed for permanent retention are partnership agreements and annual progress reports.

8. Securities and Exchange Commission, Division of Corporation Finance (DAA-0266-2016-0001, 1 item, 1 temporary item). Records related to the submission and processing of requests by businesses for confidential handling of certain proprietary business or financial information.

9. Securities and Exchange Commission, Office of the Chair (DAA-0266-2014-0011, 3 items, 1 temporary item). Copies of the Chair's correspondence. Proposed for permanent retention are records of the Chair including correspondence, subject files, itineraries, briefing books, speeches, and documentation of the strategies, decisions, and actions of the Chair.

10. Securities and Exchange Commission, Office of the General Counsel (DAA-0266-2015-0004, 6 items, 3 temporary items). Records include legal opinions, working files, and records of routine cases. Proposed for permanent retention are legal opinions provided to the Chair or the Commissioners, records of major cases, and records of Commission participation in reorganization proceedings under the Bankruptcy Act.

Dated: November 4, 2015.
Laurence Brewer,
Director, National Records Management Program.

[FR Doc. 2015-29436 Filed 11-17-15; 8:45 am]

BILLING CODE 7515-01-P